DEPARTMENT OF COMMERCE

National Oceanic and Atmospheric Administration

RIN 0648-XD81

Notice of Availability of Final Eastern Pacific Northern Fur Seal Stock Conservation Plan

AGENCY: National Marine Fisheries Service (NMFS), National Oceanic and Atmospheric Administration (NOAA), Commerce.

ACTION: Notice; response to comments.

SUMMARY: NMFS has revised the conservation plan (Plan) for northern fur seals to incorporate new information obtained since the original plan was completed. The Plan is required by the Marine Mammal Protection Act (MMPA) and was initially completed in 1993. The goal of the Plan is to promote the recovery of northern fur seals to their optimum sustainable population levels. The Plan is available to the public.

ADDRESSES: The Plan is available on the Internet at the following address: http://www.fakr.noaa.gov/protectedresources/seals/fur.htm. Copies of the Plan may also be obtained from the NMFS, Protected Resources Division, 222 W. 7th Ave., #43, Anchorage, AK 99513; or from the Alaska Regional Office, Protected Resources Division, 709 W. 9th St., P.O. Box 21668, Juneau, AK 99802.

FOR FURTHER INFORMATION CONTACT: Michael Williams, NMFS, Alaska Region, Anchorage Field Office, (907) 271 5006, email: Michael.Williams@noaa.gov, or Kaja Brix, NMFS, Alaska Region, (907) 586 7235, email: Kaja.Brix@noaa.gov.

SUPPLEMENTARY INFORMATION:

Background

The MMPA requires NMFS to prepare a conservation plan to promote the conservation and recovery of any species or stock designated as depleted. NMFS published the northern fur seal conservation plan in 1993, after the Pribilof Islands stock was listed as depleted. The goal of the Plan is to return the population to its optimum sustainable population (OSP) level. Significant new ecological information is available, and the Plan required updating. New information includes trends in abundance, estimation of lactating female and juvenile male summer foraging habitat, continued entanglement in fishing nets and plastic packing bands, estimates of prey consumption from scats and regurgitations, estimation of migration routes by adult females and weaned pups, development and implementation of comanagement agreements with Alaska Native Tribes, development of oil spill contingency plans, and assessments of interactions with commercial fisheries. The four objectives of the plan are to (1) identify and eliminate or mitigate the cause or causes of human related mortality; (2) assess and avoid or mitigate adverse effects of human related activities on or near the Pribilof Islands and other habitat essential to the survival and recovery of fur seals; (3) continue and as necessary expand research or management programs to monitor trends and detect natural or human related change in fur seals or habitat essential to its survival and recovery; and (4) coordinate and assess the implementation of the conservation plan. The plan will be reviewed and updated every 5 years. The goal of the Plan will be met when the depleted designation for northern fur seals can be removed.

The notice of availability of the draft revised conservation plan was published June 5, 2006 (71 FR 32306), and the comment period closed August 4, 2006. Seven sets of comments were received during the comment period. Summaries of comments and responses to those comments are organized by subject area below.

Harvest Issues

Comment 1: NMFS should verify, assess, quantify, and enforce all potentially illegal harvests as a source of unaccounted mortality.

Response: NMFS Office for Law Enforcement and both tribal governments are cooperating to determine if illegal harvests occur and to develop solutions. If unreported harvests are discovered, these will be included in future summaries of harvest activity.

Comment 2: NMFS should present substantive text from the subsistence harvest Environmental Impact Statement (EIS), including details of recent subsistence harvests such as reduced harvest due to availability or reduced interest and implications for management.

Response: NMFS will incorporate available subsistence harvest data. Although the harvest has been lower since 2000 than in the 1980s and 1990s, the cause for the reduction is unknown.

Comment 3: NMFS should analyze archived samples or data and subsequently collaborate with the tribes to discuss and design any directed subsistence harvest research.

Response: NMFS has coordinated and continues to coordinate any research associated with the subsistence harvest. NMFS is assessing archived samples and data to improve the collection of samples from subsistence harvests.

Fisheries Interactions

Comment 4: NMFS should recognize the establishment of the Marine Conservation Alliance Foundation (MCAF) to fund and coordinate a comprehensive marine debris clean-up program in Alaska. The MCAF program also includes efforts to identify the age composition, and origin of lost or discarded gear.

Response: NMFS recognizes MCAF's efforts as a result of over $1 million in grant funding from NOAA's Marine Debris Program to help reduce the accumulation of derelict fishing gear and marine debris in nearshore areas of Alaska in the past few years.

Comment 5: NMFS should change the disentanglement program emphasis to prioritize adult females. Low impact focal captures of females in rookeries after mid-August can occur after primary breeding males vacate territories.

Response: NMFS continues to evaluate its disentanglement efforts and will modify them as appropriate. Although it would be less disruptive and safer to approach adult females after the adult males have departed their breeding territories, the potential disruption of female-pup pairs must be weighed against the benefits of disentangling adult females.

Comment 6: NMFS should convene an entanglement workshop to discuss the state of entanglement research, appropriate methods, practical hypothesis-driven studies, and resulting management actions.

Response: NMFS agrees and is working to fund, organize and coordinate such a workshop.

Comment 7: NMFS or suitable partners should investigate the use of remote-sensing data on pirate fishing vessel distribution for comparison with satellite tracking data to evaluate the overlap in illegal fishing and migrating/foraging fur seals.

Response: NMFS remains interested in developing partnerships and utilizing remote sensing data to better manage interactions between the fur seals and human activities.

Fisheries Effects-Competition

Comment 8: NMFS should consider the competition hypothesis speculative and inconsistent with the following available data: (1) absence of nutritional stress signals in fur seals sampled on land, (2) similar rates of decline on rookeries where females forage in areas of both high and low commercial fisheries pressure, (3) size at age of pups has been consistent over a long time period suggesting mothers are able to support healthy well-suckled pups, (4) pup mortality rates are quite low compared to mortality rates at other northern fur seal rookery sites and other pinniped populations, and (5) the Pribilof northern fur seal decline has coincided with high levels of pollock abundance in eastern Bering Sea.

Response: Hypothesis testing is the best approach to examine the effects of commercial fishing, and further hypothesis testing is warranted based on overlap between northern fur seal diets and commercial fisheries catch. NMFS (2001) determined conditionally significant adverse effects might be occurring due to the magnitude of overlap and changes in the proportion of trawl effort in the foraging ranges of specific northern fur seal breeding areas.

Comment 9: The following statement is overly broad and inaccurate, “Currently, all marine areas used by northern fur seals are commercially fished”.

Response: The statement is a practical generalization that is relevant to all aspects of interactions between foreign and domestic fisheries and northern fur seals throughout their range, not just the Bering Sea. The statement suggests that fur seals interact with commercial fishing operations in all marine areas of the Bering Sea and North Pacific. NMFS has added clarifications to the statement.

Comment 10: NMFS has not adequately described the effects of competition between northern fur seals and commercial fisheries near the Pribilof Islands. NMFS should include recent temporal and spatial changes in fishing and the relevant focal species. No clear plan exists to test the potential causal relationship between commercial fishing and the current decline. NMFS has documented increasing pollock catches in Pribilof Islands northern fur seal foraging habitat in response to Steller Sea Lion critical habitat protection measures; NMFS identified conditionally significant adverse effects of fishing on northern fur seals (NMFS 2001; NMFS 2005; EA FRFA: NMFS 2006).

Response: NMFS has added additional text reflecting recent literature and previous analyses. The contrasting comments about competition between northern fur seals and commercial fisheries indicate more focused work needs to be done. Further hypothesis testing is warranted based on archived population data, historic fur seal foraging data, environmental data and fishery information to inform future investigations.

Comment 11: NMFS should present management efforts related to protecting fur seal foraging habitat; identifying important marine canyons for foraging; mitigating impacts from the pollock fleet on fur seals; using marine protected areas; prescribing site-specific management actions to address the adverse impacts of commercial fisheries on fur seals. Site-specific examples could include the following: (1) ensure adequate food availability in fur seal foraging habitat, and (2) if adequate prey to achieve optimum sustainable population cannot be quantified and accounted in the total allowable catch specifications, then NMFS should employ the F75 percent (the level of fishing mortality which reduces the estimated spawning biomass to 75 percent of its pre-exploitation level) used by the Convention for Conservation of Antarctic Marine Living Resources for fur seal prey. Actions would include closures of fur seal foraging habitat to trawl fisheries; if fur seal foraging habitat cannot be precisely delineated, expand the Pribilof Islands Area Habitat Conservation Zone to encompass all areas within at least 25 miles of the Pribilof Islands.

Response: Ecosystem complexity, data and model limitations, and indirect linkages confound NMFS current ability to quantify interactions among northern fur seals, their prey, and commercial fisheries. Place-based management of human activities may be a productive and sustainable approach consistent with a growing impetus for ecosystem approaches to management. However, it may not be productive to further alter commercial fishing effort in time and space without additional analysis of archived data and refinements to previous analyses that corroborate the earlier identification of “conditionally significant adverse effects” (NMFS 2001). Moving, reducing, or altering commercial fishing effort to reduce “conditionally significant adverse effects” for northern fur seals may in turn result in significant adverse effects for other components of the ecosystem.

Comment 12: NMFS needs to increase details in section 2.7.4 (Determine impact from fisheries) consistent with section 2.6.4 (Develop oil spill response plans and mitigation strategies).

Response: Section 2.7.4 represents the integration of subheadings 2.7 (Quantify relationships between fur seals, fisheries and fish resources) and 1.1 (Effects of marine debris), and as such covers the details we currently understand and those requiring further investigation. Mitigation and response plans to suspected fishery-related threats must be developed following the outline and priorities described in the Plan.

Comment 13: NMFS should measure the significance of impacts relative to the lack of recovery by northern fur seals to their OSP.

Response: NMFS does not have clear causative factors linked to the lack of recovery of the northern fur seal population. In the absence of such factors it is impossible to measure their influence on the rate recovery to OSP. As those factors are identified they will be incorporated into evaluations of their effect on recovery.

Comment 14: NMFS must assess fisheries effects by manipulating the fishery rather than sampling large numbers of fur seals.

Response: An adaptive management scenario is one way of assessing the impact of fishing on northern fur seals. However, manipulating the fishery is not a substitute for investigating fur seal biology and life history in areas where the interactions indicate problems may exist.

Comment 15: NMFS should prioritize assessment of potential illegal driftnet take of fur seals and the development of a more concrete plan. NMFS should reconsider priority 3 for the observer program; salmon drift gillnet fisheries may be an area of concern.

Response: NMFS is evaluating the likelihood of significant population effects from all of the potential sources identified in the plan to determine their priority along with the funding realities of the implementation costs and population benefits.

Climate Change

Comment 16: NMFS should include a brief section on the indirect behavioral implications of increased temperatures on northern fur seals reproduction and hyperthermia.

Response: The impacts of climate change on northern fur seal behavior, reproduction, and survival are highly uncertain. NMFS will continue to examine the contribution of environmental factors to the health, survival and abundance of northern fur seals. Differential growth of breeding northern fur seal populations worldwide in recent years suggests a complex array of factors influence northern fur seals, but efforts to manage threats and conserve populations will need to be adaptive and supported by an integrated inter-disciplinary research and monitoring program.

Comment 17: NMFS must consider indices of commercial and non-commercial fish abundance are complicated by regime shifts, temporal and spatial changes in sampling, changes in fishery effort, resolution of fisheries and fur seal data, and density dependent fur seal population changes.

Response: NMFS will work to capture the complexity of the ecosystem changes, fish abundance, fishery effort, fur seal response, and climate change. Text related to these factors has been clarified based on the available references.

Comment 18: NMFS should formally recommend the U.S. immediately ratify the Kyoto Protocol.

Response: NMFS, through DOC, will continue to participate in the process to develop the Administration's policies regarding climate change.

Coordination

Comment 19: Coordination of research is necessary to assure results that are applicable to management.

Response: Coordination of research and communication of results of that research are essential, and NMFS has identified this as one of the four primary objectives of the plan. Implementing conservation plan priorities, reviewing conservation action effectiveness, and updating the plan at 5-year intervals also assures relevance to short and long-term management.

Harassment

Comment 20: The human presence and research section should be updated to incorporate summary information from the current environmental analysis of Steller Sea lion and northern fur seal research.

Response: The Plan has been revised to include the main findings from the EIS. The EIS is available on the Internet at http://www.fakr.noaa.gov/protectedresources/seals/fur.htm.

Comment 21: Resighting previous marks should be prioritized above new marking to reiterate the importance of a resighting program with any marking program.

Response: Many of the previously marked fur seals from the last large-scale marking program are no longer alive or have lost their marks. NMFS is currently evaluating the applicability of a resighting program based on the few individuals marked from other studies. The results of such a resighting program based on so few marks may have such high variability that the effort is not warranted. Further evaluation is required. Melin et al. (2006) describes the history of northern fur seal marking programs and the results of a 2005 workshop on the topic. NMFS encourages readers to obtain a copy of AFSC Processed Report 2006-15 on the Internet at http://www.afsc.noaa.gov/Publications/ProcRpt/PR%202006-15.pdf.

Comment 22: The plan should acknowledge mortality can result from research (e.g., capture myopathy).

Response: NMFS has revised the plan to include actual and potential research mortality.

Comment 23: NMFS must prioritize disturbance research, carefully plan ongoing, additional, or expanded research, use archived data, and support independent review to determine cost-effective and environmentally sensitive fur seal field studies.

Response: NMFS and other northern fur seal research permit holders are authorized to conduct studies within the scope of their permits, much of which is related to research described in the Plan. Those research projects are implemented as funding is available. NMFS is not issuing new permits or major amendments to existing permits until the completion of the Steller sea lion and northern fur seal research EIS. The results of these investigations will inform subsequent study design and the development of hypothesis-driven studies. Those studies will be authorized by current and future scientific research permit applications and modifications that will be reviewed by NMFS, the Marine Mammal Commission and the public. NMFS is examining archived data to better understand potential correlations between research and fur seal survival and reproduction.

Comment 24: An independent workshop to evaluate study design, sample size, appropriate and least intrusive research should be included as a component of the plan.

Response: NMFS will consider convening such a workshop.

Comment 25: Add a subsection titled: 2.6.5. Assess noise pollution.

Response: NMFS continues to evaluate noise related to biologically significant harassment as individual projects are proposed. Given the available evidence regarding the effects of airborne and underwater noise exposure, adding an entire subsection to the topic is not warranted at this time.

Comment 26: Section G.8.1 oversimplifies the problem of harassment associated with aircraft flying near and over resting and breeding northern fur seals.

Response: NMFS disagrees. Currently the intensity and duration of aircraft overflights has been reduced to levels much lower than the early 1990s, and a detailed elaboration of the situation is not warranted.

Comanagement

Comment 27: The priority goal for tribal governments should be to develop a long-term marine mammal research plan as a central part of their comanagement program and strengthen partnering opportunities.

Response: NMFS considers long-term planning and strategic partnering with the tribes to be an essential part of the comanagement process. NMFS intends to work closely with the tribes to develop short and long-term plans together to support ongoing conservation and recovery actions for northern fur seals and Steller sea lions, respectively.

Comment 28: NMFS must make a stronger commitment to environmental justice in the conservation plan.

Response: Local involvement is essential to successful conservation and continues via comanagement to ensure the consumers of northern fur seals are involved in northern fur seal research and management.

Miscellaneous Comments

Comment 29: Consider the following additions to the oil spill response section: (1) mention Island Sentinel in monitoring for spills year-round, (2) implement a local response training program so locals can respond, and (3) plan for use of carcasses for research consistent with bycatch section.

Response: The oil spill response section is based on the current oil spill contingency plan for the Pribilof Islands. NMFS has supported similar revisions to the draft oil spill contingency plans (early 2007) for the Pribilof Islands; however, that plan has not yet been finalized. When the oil spill contingency plan is finalized NMFS will incorporate revisions as appropriate.

Comment 30: Suggest adding new section “B.8 Complex Social Behavior” in “II. CONSERVATION STRATEGY”.

Response: NMFS disagrees that such a section is warranted at this time because fur seal social behavior is not characterized or quantified to a level useful for conservation, recovery and research.

Comment 31: References to unpublished and non-refereed literature, some unavailable for review, should not be given the same weight as peer-reviewed literature.

Response: NMFS used the best available science (published and unpublished) and traditional ecological knowledge in developing this plan. References are appropriately cited to acknowledge the source of information.

Comment 32: In section 1.2 “Incidental takes” add to this section the mandatory recording of all northern fur seal sightings from vessels (platforms of opportunity). Observers must be trained and tested for reliability to distinguish fur seals in water from other pinnipeds. Data records should include exact location, distance, and position with respect to vessel, vessel state, animal state, and animal age and sex if possible.

Response: The platform of opportunity program is voluntary and provides marine mammal sighting data to NMFS. In addition, NMFS observers also collect marine mammal sightings and are trained to meet needs across numerous disciplines. Accordingly, marine mammal observations and identification are part of the training received by each observer.

Comment 33: NMFS should include relevant data on behavior and vital rate information from fur seals breeding on Bogoslof Island.

Response: NMFS has added relevant data from northern fur seals breeding on Bogoslof Island.

Comment 34: Consider revising section I.C.3 “Carrying Capacity” to include more information from Fritz et al. (in review) and a summary of recent work by Fowler regarding the concept of carrying capacity in ecosystems.

Response: NMFS has included a summary of Fowler's work evaluating ecosystem carrying capacity. Fritz et al. (in review) continues to develop and, in it's draft stage, is not appropriate to include at this time.

Comment 35: Oil spill simulation models should be updated with the recent satellite and radio tracking data.

Response: NMFS will consider such revisions and their implementation as appropriate. NMFS has and will continue to meet with other federal agencies to determine the state of oil spill risk assessment and oil spill trajectory simulations in northern fur seal marine habitat.

Comment 36: NMFS should add the following section: Determine the importance of social interactions to lifetime reproductive success (e.g., mother-offspring relocation behavior, non-random associations such as between kin, observational learning). Determine how these interactions may be affected by changes in population size, climate, and whether there could be additive or positive feedback effects on a decreasing population (i.e., exacerbate a decline).

Response: NMFS did not add the suggested section regarding social interactions among northern fur seals. NMFS is not aware of any published or unpublished reports on the topic.

Comment 37: The plan needs a clear vision of the specific tasks that can be accomplished in the next 5 years: e.g., COFFS (Consequences of Female Foraging Strategies); population models; diet research.

Response: NMFS has prioritized various conservation actions and research. NMFS will follow the mandates under the relevant legislation to continue to collect basic population data and investigate critical management priorities. The completion of these priorities is funding-dependent.

Comment 38: NMFS should develop criteria for recovery and listing as threatened or endangered under the ESA.

Response: This plan addresses a depleted species as required by the MMPA. An evaluation for listing or recovery criteria for a population listed under the ESA is not appropriate for this document.

Threats Table

Comment 39: The threats table is difficult to understand, is inconsistent, and has arbitrary and non-quantitative scales.

Response: NMFS re-evaluated and revised the threats table to resolve inconsistencies and increase understanding for the reader.

Research Priorities

Comment 40: In section 3.1.5, trends in age structure and age-specific reproductive rates should be separated from the diet studies also recommended in this section. Longitudinal studies of marked females (e.g., Gentry, 1998) or cross-sectional studies of female vibrissae color (Scheffer, 1962; Baba et al., 1991) should be designed to develop stage-based structural models (e.g., Holmes and York, 2003).

Response: NMFS separated and consolidated diet and foraging into sections 2.7.1 and 2.7.2. In addition NMFS discussed numerous factors related to vital rates during a workshop convened in September 2005. A longitudinal and cross-sectional study was discussed at length and deemed the most time and cost-effective approach to obtaining accurate estimates for key vital rates. See response to comment 21.

Comment 41: In section 3.1.5, alternative methods including live-capture at sea should be investigated as a replacement for lethal collections. Japanese scientists have used live captures at sea and in combination with lavage (diet), tooth extraction (age-structure), and ultra-sound or hormone assay (repro) as suitable alternatives for lethal sampling.

Response: NMFS discussed all these factors related to vital rates during a workshop convened in September 2005. See response to comment 21. Also see G.P. Adams, J.W. Testa, C.E.C. Goertz, R.R. Ream, and J.T. Sterling. 2006. Ultrasonographic characterization of reproductive anatomy and early embryonic detection in the northern fur seal (Callorhinus ursinus) in the field. Marine Mammal Science 23(2): 445-452.

Comment 42: NMFS should initiate a survey of late season (Sept/Oct) pup mortality surveys at selected study sites to assess the level of pup mortality following the regular August pup mortality surveys.

Response: NMFS discussed factors related to vital rates during a workshop convened in September 2005. See response to comment 21. Reliable estimates of pup mortality at any time of the year can only be obtained by substantial disturbance and additional mother-pup separations associated with clearing an entire nursery area. Therefore, the recommended surveys are not warranted at this time.

Comment 43: NMFS should use guidance from Bowen et al. (2001) regarding experimental design to measure the success of management actions.

Response: Evaluating fur seal response to conservation actions in this plan is consistent with the guidance of Bowen et al. (2001).

Dated: December 20, 2007.
James H. Lecky,
Director, Office of Protected Resources, National Marine Fisheries Service.

[FR Doc. E7-25281 Filed 12-27-07; 8:45 am]

BILLING CODE 3510-22-S